ENVIRONMENTAL PROTECTION AGENCY

40 CFR Part 52

[PA-4144a; FRL-7041-1]

Approval and Promulgation of Air Quality Implementation Plans; Pennsylvania; VOC and NOX RACT Determinations for Ten Individual Sources in the Pittsburgh-Beaver Valley Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for ten major sources of volatile organic compounds (VOC) and nitrogen oxides (NOX). These sources are located in the Pittsburgh-Beaver Valley ozone nonattainment area (the Pittsburgh area). EPA is approving these revisions to establish RACT requirements in the SIP in accordance with the Clean Air Act (CAA).

DATES: This rule is effective on October 9, 2001 without further notice, unless EPA receives adverse written comment by September 24, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; Allegheny County Health Department, Bureau of Environmental Quality, Division of Air Quality, 301 39th Street, Pittsburgh, Pennsylvania 15201 and the Pennsylvania Department of Environmental Protection, Bureau of Air Quality Control, P.O. Box 8468, 400 Market Street, Harrisburg, Pennsylvania 17105.

FOR FURTHER INFORMATION CONTACT: Janice Lewis at (215) 814-2185 or Betty Harris at (215) 814-2168, the EPA Region III address above or by e-mail at lewis.janice@epa.gov or harris.betty@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) all sources covered by a CTG issued prior to November 15, 1990; and (3) all major non-CTG sources. The regulations imposing RACT for these non-CTG major sources were to be submitted to EPA as SIP revisions by November 15, 1992 and compliance required by May of 1995.

The Pennsylvania SIP already includes approved RACT regulations for all sources and source categories covered by the CTGs. On February 4, 1994, PADEP submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more.

Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA expects to publish the final rulemaking in the Federal Register in the near future. Federal approval of a case by case RACT determination for a major source of NOX in no way relieves that source from any applicable requirements found in 25 PA Code Chapters 121, 123 and 145.

II. Summary of the SIP Revisions

On July 1, 1997, October 23, 1997, November 4, 1997, December 31, 1997, April 9, 1999, and August 9, 2000, PADEP submitted revisions to the Pennsylvania SIP which establish and impose RACT for several sources of VOC and/or NOX. This rulemaking pertains to ten of those sources. The remaining sources are or have been the subject of separate rulemakings. The Commonwealth's submittals consist of operating permits and consent orders which impose VOC and/or NOX RACT requirements for each source. These sources are all located in the Pittsburgh area. The table below identifies the sources and the individual operating permits (OPs), consent orders (COs), or enforcement orders (EOs) which are the subject of this rulemaking. A summary of the VOC and NOX RACT determinations for each source follows the table.

Pennsylvania—VOC and NOX RACT Determinations for Individual Sources
Source | County | OP# or CO# | Source type | “Major source” pollutant
Carbidie Corporation | Westmoreland | OP 65-000-720 | Tungsten Carbide Products | VOC
Fansteel Hydro Carbide | Westmoreland | OP 65-000-860 | Tungsten Carbide Products | VOC
Newcomer Products, Inc | Westmoreland | OP 65-000-851 | Tungsten Carbide Products | VOC
Heinz USA—Pittsburgh | Allegheny | EO 211, CO 247 | Food Processing | VOC
Nabisco Biscuit Company | Allegheny | CO 246 | Food Processing | NOX/VOC
Aristech Chemical Corporation | Allegheny | CO 232 | Chemical Manufacturing | VOC
Dyno Nobel Inc.—Donora Plant | Washington | OP 63-000-070 | Chemical Manufacturing | NOX
General Carbide Corp | Westmoreland | OP 65-000-622 | Powder Milling | VOC
Koppers Industries, Inc | Allegheny | CO 223 | Chemical Manufacturing | VOC
Pressure Chemical Company | Allegheny | CO 261 | Chemical Manufacturing | VOC

A. Carbidie Corporation

Carbidie Corporation (Carbidie) is a tools and parts tungsten carbide manufacturer located in Hempfield, Pennsylvania. Carbidie is a major source of VOC. On July 31, 1998, PADEP issued an operating permit (OP-65-000-720) to establish and impose RACT for Carbidie. Under OP 65-000-720, fixed lids and shaft seals on mixers and storage tanks must be monitored to insure that they are sealing properly sealed. A record of daily inspections shall be maintained as well. The temperature of the cool water chiller bath shall be maintained in the range of 55°-72° F. Under OP 65-000-720, a thermocouple must be installed, monitored, and maintained to ensure compliance. Dryers equipped with condensers must not be operated in the event that the condenser units are incapable of operation. Under OP 65-000-720, Carbidie, in accordance with 25 Pa Code 129.95, must retain sufficient records to demonstrate compliance with all conditions to meet RACT. This includes the following, but is not limited to: cool water chiller bath temperature (55°-72° F); total heptane consumption on a monthly basis; hours of operation; and all maintenance and repair operations to ensure compliance with all emission limits and restrictions. All records must be retained for at least two years. Carbidie must properly operate and maintain all equipment according to good engineering and air pollution control practices.

B. Fansteel Hydro Carbide

Fansteel Hydro Carbide (Fansteel) is a manufacturer of cemented tungsten carbide located in Latrobe, Pennsylvania. Fansteel is a major source of VOC. Fansteel has three 100SC attritors, five 30S attritors, two ballmills, and six vacuum dryers. The attritors will be controlled by a packaged chiller unit and the dryers are equipped with condensers. On December 12, 1997, PADEP issued an operating permit (OP-65-000-860) to establish and impose RACT on Fansteel. Under OP 65-000-860, the attritors must not be operated in the event that the package chiller unit is incapable of operation and the vacuum dryers shall not operate if the condensers are incapable of operation. Under OP 65-000-860, the coolant temperature exiting the package chiller unit must be maintained no at higher than 55 degrees Fahrenheit. The monitor on chiller unit shall visually show the inlet and outlet temperatures. These two readings along with time taken must be documented in a log book once a shift. These records must be retained on site for at least two years. The OP 65-000-860, requires Fansteel to operate an audible alarm in the milling room to ensure that the operators are aware if the chiller unit outlet water temperature is above the maximum temperature allowed (55 degrees Fahrenheit). Under OP 65-000-860, Fansteel must track and record hours of operation and all maintenance and repair operations to the attritor mills, package chiller unit, and vacuum dryers (condensers). All such recordkeeping must be done on a monthly basis. All such records shall be retained on site for at least two years. Under the OP, Fansteel must conduct a fugitive heptane leak detection and repair program patterned after that required for fugitive VOC sources at petroleum refineries under 25 Pa. Code 129.58. The facility shall record all spills of VOC-containing material. Spills must be cleaned-up to minimize atmospheric emissions. Emissions which occur as a result of spills must be estimated and recorded. Those spills which result in emissions exceeding 3 pounds of VOC /hr or 15lbs/day shall be immediately reported to PADEP and included in Fansteel's annual emissions inventory. Fansteel must document and maintain monthly records of the quantity of VOC-containing compound used at this facility. Fansteel must monitor in a logbook the weekly heptane consumed and recovered. Fansteel must maintain records in accordance with 129.95 and 129.91-.94 of Pennsylvania's SIP-approved regulations. Fansteel must properly operate and maintain all equipment according to good engineering and air pollution control practices.

C. Newcomer Products, Inc.

Newcomer Products, Inc. (Newcomer) is a tungsten carbide product manufacturer located in Latrobe, Pennsylvania. Newcomer is a major source of VOC. On August 7, 1997, PADEP issued an operating permit (OP-65-000-851) to establish and impose RACT on Newcomer. The OP 65-000-851 requires the installation of a Dry Mill (two 30SC attritors), Water Mill & Spray Dryer, and Vibratory Manufacturing System. This operation will be controlled by a new cyclone and baghouse. A monthly log must be kept of all VOC-containing materials purchased, consumed, and the inventory on hand at the facility. These records shall be maintained in a file for a period of no less than two years. Under OP 65-000-851, no heptane shall be used in the milling, powder making, and the carbide pellet making processes unless approved by PADEP. Newcomer must properly operate and maintain all equipment according to good engineering and air pollution control practices.

D. Heinz USA

Heinz USA (Heinz) is a food processing facility located in Pittsburgh, Pennsylvania. Heinz is a major source of VOC and NOX. On March 8, 1996 and October 24, 1996, respectfully, the Allegheny County Health Department (ACHD) issued an Enforcement Order (EO 211) and a Plan Approval and Agreement Upon Consent Order (CO 247) to establish and impose RACT on Heinz. Under EO 211, the NOX emissions from the seven boilers must not exceed the following:

Boiler No. | NOX lbs/ MMBtu | TPY
Boiler #1 | 0.24 | 111
Boiler #2 | 0.24 | 111
Boiler #3 | 0.28 | 74
Boiler #4 | 0.28 | 74
Boiler #5 | 0.28 | 74
Boiler #7 | 0.20 | 74
Boiler #8 | 0.10 | 78

Under EO 211, Heinz at no time shall allow the combined annual NOX emissions to exceed 596 tons per year. Under EO 211, compliance for each boiler must be determined through emission testing according to all applicable EPA approved test methods and section 2108.02 of Article XXI of the ACHD's air pollution control regulation. Heinz must conduct emissions monitoring for NOX from boiler #8 according to 40 CFR part 60, subpart Db. Under EO 211, Heinz must maintain all records and testing data to demonstrate compliance with section 2105.06 of Article XXI of the ACHD's air pollution control regulations. Recordkeeping requirements must include (1) the fuel usage and steam load per unit; (2) all recording and reporting required by EPA's 40 CFR part 60, subpart Db for boiler #8. Under CO 211, Heinz must retain all records required by section 2105.06 of Article XXI. Under CO 247, Heinz must install a VOC absorption system, for the purposes of reducing VOC emissions from the vinegar production generators. Under CO 247, Heinz shall not operate the vinegar production generators unless the VOC absorption system is at all times properly maintained and operated within the following performance specifications: Minimum VOC stack removal efficiency by the absorption system of eighty percent (80%); and minimum overall VOC removal efficiency of sixty-four percent (64%). Under CO 247, Heinz must conduct a system performance test in order to demonstrate compliance with the performance specifications. Under CO 247, Heinz must determine the stack absorption system removal efficiency according to EPA approved test methods and section 2108.02 of Article XXI of the ACHD's air pollution control regulations. Also, Heinz must estimate the overall control efficiency through material balance calculations. Under CO 247, Heinz shall not, at any time, conduct ketchup production in the ketchup process mixing kettles unless the addition of vinegar to the kettles is through a hard-pipe system from the vinegar storage tanks and the kettles are immediately covered after the addition of all ingredients. Under EO 247, Heinz must not, at any time, use glue in the labeling and packaging process at the facility that exceeds a VOC content of on percent (1%), by weight. Under CO 247, Heinz must not, at any time, allow the annual average use of solvent borne inks to exceed seventy percent (70%) and the maximum VOC content of solvent borne inks to exceed ninety-five percent (95%). Under CO 247, Heinz must maintain all appropriate records to demonstrate compliance with the requirements of section 2150.06 of Article XXI of the ACHD's air pollution control regulations. All records must provided sufficient data and calculations to demonstrate that all requirements of section 2105.06 of Article XXI are met. Heinz must record data and information required to determine compliance for the facility in a time frame consistent with the averaging period of the requirements of section 2105.06 of Article XXI. All records for both (EO 211 and CO 247) must be retained for at least two years. Under EO 211 and CO 247, Heinz must operate and maintain all process and emission control equipment according to good engineering and air pollution control practices.

E. Nabisco Biscuit Company

Nabisco Biscuit Company (Nabisco) is a bakery facility located in Pittsburgh, Pennsylvania. Nabisco is a major source of VOC. On December 19, 1996, the ACHD issued CO 246 to establish and impose RACT on Nabisco. The PADEP submitted CO 246, on behalf of the ACHD, to EPA as a SIP revision. Under CO 246, at no time shall Nabisco allow the following equipment to operate unless each piece of equipment is being maintained and operated in accordance with good engineering practice and within the manufacturer's specifications: Boiler #1, Boiler #2; Propane vaporizer; and Bake ovens #2-#6. Under CO 246, Nabisco must maintain records of fuel type and fuel usage, certifications from fuel suppliers for all types of liquid fuel. For each shipment of distillate oils #1 or #2, a certification that the fuel complies with ASTM D396-78 “Standard Specifications for Fuel Oils” is required. For residual oils, minimum recordkeeping includes a certification from the fuel supplier of the nitrogen content of the fuel, and identification of the sampling method and protocol. Under CO 246, Nabisco must not at any time, allow the use of yeast-leaved dough in bake ovens three (#3), four (#4) and six (#6). Under CO 246, Nabisco must not allow the annual operation of bake ovens two (#2) and five (#5) to exceed eighty-four percent (84%) of their maximum operating capacity or 7, 360 hours per year, each for yeast-leavened dough. There shall be no limitation on the use of non-yeast leavened dough in bake ovens two (#2) or five (#5). Annual limits must be met on a rolling monthly basis over every consecutive 12 month period. Under CO 246, Nabisco must maintain all appropriate records to demonstrate compliance with section 2105.06 of Article XXI of the ACHD's air pollution control regulations. Record must provide sufficient data and calculations to clearly demonstrate that all requirements of section 2105.06 or Article XXI are met. Recordkeeping requirements must include the hours of operation, dough type (yeast or non-yeast) per bake oven. All records must be retained for at least two years. Under CO 246, Nabisco must operate and maintain all equipment according to good engineering and air pollution control practices.

F. Aristech Chemical Company

Aristech Chemical Company (Artistech) is a plasticizer manufacturing facility located in Pittsburgh, Pennsylvania. Artistech is a major source of VOC. On December 30, 1996, the ACHD issued CO 232 to establish and impose RACT on Aristech. The PADEP submitted CO 232, on behalf of the ACHD, to EPA as a SIP revision. Under CO 232, Aristech must properly maintain, at all times, the plasticizer manufacturing plant reactor vents and the stripper secondary jet water cooled condensers at an average annual coolant inlet temperature of 95° F, except in emergency situations. Under CO 232, Aristech must operate the alcohol measuring tanks for the plasticizer train #3 to operate a maximum operating temperature that shall not exceed 110 degrees centigrade and the maximum heating cycle must not exceed two hours. Under CO 232, Aristech must maintain all records and testing data to demonstrate compliance with section 2105.06 of Article XXI of the ACHD's air pollution control regulations. Recordkeeping requirements shall include the following, but not be limited to, production records and condenser inlet coolant temperatures. All records shall be maintained for at least two years. Under CO 232, Aristech must operate and maintain all equipment according to good engineering and air pollution control practices.

G. Dyno Nobel Inc.

Dyno Nobel Inc. (Dyno) is a manufacturer of ammonium nitrate located in Donora, Pennsylvania. Dyno is a major source of NOX. On March 31, 1999, PADEP issued an operating permit (OP-63-000-070) to establish and impose RACT on Dyno. The OP 63-000-070 requires RACT for the entire facility not to exceed 460 tons/year in any 12-month consecutive period as follows:

Process unit/units | TPY | lbs/hr.
Ammonia Oxidation Process | 396 | 5.5 lbs/ton.
Cleaver Brooks #1 Boiler | 31 | 7.1 lbs/hr.
Murray #2 Boiler | 31 | 7.1 lbs/hr.

Under OP 63-000-070, Dyno must perform an annual adjustment or tune-up as required by 25 Pa Code Chapter 129.93 (b)(2) on each boiler with individual rated heat inputs between 20 and 50 MMBTU/hr as identified. Under OP 63-000-070, Dyno must maintain records for each adjustment conducted under the procedures outlined in 25 Pa Code Chapter 129.93(b)(2) (i-iii) for all identified combustion sources with rated heat inputs between 20 and 50 MMBtu/hr. All records must contain, at a minimum, the following: The date of the tuning procedure, the name of the service company and technicians, the final operating rate or load, the final NOX emission rates, the final excess oxygen rate. Under OP 63-000-070, Dyno must maintain records including computerized records that may be necessary to comply with 23 Pa Code Chapter 135.21 (relating to reporting and emission statements). The records shall include production, fuel usage, maintenance of production or pollution control equipment, quantification of potential and actual air contaminant emissions. Under OP 63-000-070, Dyno shall maintain records in accordance with the record keeping requirements of 25 Pa Code Chapter 129.95. The records shall provide sufficient data and calculations to clearly demonstrate that the requirements of 25 Pa Code Chapter 129.91-94 are met. Data and information required to determine compliance shall be recorded and maintained in a time frame consistent with averaging periods to verify compliance. These records shall be retained for at least 5 years. Dyno must properly operate and maintain all equipment according to good engineering and air pollution control practices in accordance with applicable PADEP regulations.

H. General Carbide Corporation

General Carbide Corporation (General Carbide) processes metal carbide powders into tools and is located in Hempfield Township, Pennsylvania. General Carbide is a major source of VOC. On December 29, 1995, PADEP issued OP-65-000-622 to establish and impose RACT on General Carbide. Under OP 65-000-622, General Carbide may not operate unless its dryers and condensers are operational. Under OP 65-000-622, General Carbide must track and record hours of operation, total heptane consumption, all maintenance and repair operations to comply with the recordkeeping requirements. These record must be retained on site for at least two years. Under OP 65-000-622, General Carbide must conduct daily monitoring of the area that uses heptane. A heptane vapor monitor will be used to assure that the equipment is functioning properly and no leaks are occurring. If any leaks are detected from the storage tanks or process, General Carbide will notify PADEP immediately. OP 65-00-622 requires General Carbide to continue to officially document and maintain monthly records on the quantity of VOC containing compounds used at the facility. General Carbide must properly operate and maintain all processes according to good engineering and air pollution control practices in accordance with applicable PADEP regulations.

I. Koppers Industries, Inc.

Koppers Industries, Inc. (Koppers) is the owner and operator of crude tar feed and heavy, middle, and light distillates facilities in Clairton, Allegheny County, Pennsylvania. Koppers is a major source of VOC. On August 27, 1996, the ACHD issued CO 223 to establish and impose RACT on Koppers. The PADEP submitted CO 223, on behalf of the ACHD, to EPA as a SIP revision. Under CO 223, Koppers must not operate the tar distillation and refining unit unless the VOC emissions from this unit is processed by the existing natural gas blanketing system. Under CO 223, the natural gas blanketing system must be properly maintained and operated with a minimum VOC destruction efficiency of 95% at all times when the tar distillation and refining unit is operating. Under CO 223, the natural gas blanketing system destruction efficiency must be determined annually according to US EPA approved test methods and as required by section 2108.02(c) of Article XXI of the ACHD's air pollution control regulations. Under CO 223, Koppers must maintain all records and testing data to demonstrate compliance with section 2105.06 of Article XXI of the ACHD's air pollution control regulations. Under CO 223, all records must provide sufficient data and calculations to demonstrate that all requirements of section 2105.06 of Article XXI are being met. The data and information required to determine compliance must be recorded and maintained by the Koppers and shall include, but not limited to, throughput and operating hours of the tar refining process. All records shall be maintained for at least two years. Under CO 223, Koppers must operate and maintain all equipment according to good engineering and air pollution control practices.

J. Pressure Chemical Co.

Pressure Chemical Co. (Pressure Chemical) is a operator of a small batch chemical manufacturing facility located in Pittsburgh, Pennsylvania. Pressure Chemical is a major source of VOC. On June 11, 1997, the ACHD issued CO 261 to establish and impose RACT on Pressure Chemical. The PADEP submitted CO 261, on behalf of the ACHD, to EPA as a SIP revision. Under CO 261, Pressure Chemical must keep all storage containers containing VOCs covered at all times except during the transfer of materials and must clean any liquid or dry material spilled at the facility. Under CO 261, Pressure Chemical must at all times maintain the following records in order to calculated actual VOC emissions according to accepted mass balance methodology: (1) Purchase and inventory records of VOC containing materials; (2) annual throughput of VOC-containing materials; and (3) production records for all processes involving VOC containing materials. All records must be retained for at least two years. Under CO 261, Pressure Chemical must properly maintain and operate all existing process equipment according to good engineering and air pollution control practices.

III. EPA's Evaluation of the SIP Revisions

EPA is approving these RACT SIP submittals because the ACHD and PADEP established and imposed these RACT requirements in accordance with the criteria set forth in SIP-approved RACT regulations applicable to these sources. The ACHD and PADEP have also imposed recordkeeping, monitoring, and testing requirements on these sufficient to determine compliance with the applicable RACT determinations.

IV. Final Action

EPA is approving the revisions to the Pennsylvania SIP submitted by PADEP to establish and require VOC and NOX RACT for ten major of sources located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 9, 2001 without further notice unless EPA receives adverse comment by September 24, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for ten named sources.

C. Petitions for Judicial Review

Under section 307(b)(1) of the Clean Air Act, petitions for judicial review of this action must be filed in the United States Court of Appeals for the appropriate circuit by October 23, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and/or NOX from ten individual sources located in the Pittsburgh-Beaver Valley of Pennsylvania may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 15, 2001.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(178) to read as follows:

§ 52.2020 Identification of plan.

* * * * *

(c) * * *

(178) Revisions pertaining to VOC and/or NOX RACT for major sources, located in the Pittsburgh-Beaver Valley ozone nonattainment area, submitted by the Pennsylvania Department of Environmental Protection on July 1, 1997, October 23, 1997, November 4, 1997, December 31, 1997, April 9, 1999 and August 9, 2000.

(i) Incorporation by reference.

(A) Letters dated July 1, 1997, October 23, 1997, November 4, 1997, December 31, 1997, April 9, 1999 and August 9, 2000 submitted by the Pennsylvania Department of Environmental Protection transmitting source-specific VOC and/or NOX RACT determinations, in the form of operating permits, consent orders, and enforcement orders.

(B) Operating permits (OP), Consent Orders (CO) and Enforcement Orders (EO) for the following sources:

(1) Aristech Chemical Corporation, CO 232, effective December 30, 1996, except for condition 2.6.

(2) Heinz USA, EO 211, effective March 8, 1996, except for conditions 1.5, 2.4, and 2.5; and CO 247, effective October 24, 1996, except for conditions 1.11 and 2.7.

(3) Koppers Industries, Inc., CO 223, effective August 27, 1996, except for condition 2.5.

(4) Nabisco Biscuit Company, CO 246, effective December 19, 1996, except for condition 2.5.

(5) Pressure Chemical Company, CO 261, effective June 11, 1997, except for condition 2.8.

(6) General Carbide Corporation, OP 65-000-622, effective December 29, 1995, except for the Permit Term.

(7) Fansteel Hydro Carbide, OP 65-000-860, effective December 12, 1997.

(8) Carbidie Corporation, OP 65-000-720, effective July 31, 1998, except for the Permit Term, and Conditions 4, 5 and 11.

(9) Dyno Nobel, Inc., OP 63-000-070, effective March 31, 1999, except for the Permit Term.

(10) Newcomer Products, Inc., OP-65-000-851, effective August 7, 1997.

(ii) Additional Materials—Other materials submitted by the Commonwealth of Pennsylvania in support of and pertaining to the RACT determinations for the sources listed in paragraph (c)(178)(i)(B) of this section.

[FR Doc. 01-21425 Filed 8-23-01; 8:45 am]

BILLING CODE 6560-50-P